DEPARTMENT OF DEFENSE

GENERAL SERVICES ADMINISTRATION

NATIONAL AERONAUTICS AND SPACE ADMINISTRATION

[Docket 2015-0076; Sequence 15; OMB Control No. 9000-0066]

Information Collection; Professional Employee Compensation Plan

AGENCY: Department of Defense (DOD), General Services Administration (GSA), and National Aeronautics and Space Administration (NASA).

ACTION: Notice of request for comments regarding the extension of a previously existing OMB clearance.

SUMMARY: Under the provisions of the Paperwork Reduction Act, the Regulatory Secretariat Division will be submitting to the Office of Management and Budget (OMB) a request to review and approve an extension of a previously approved information collection requirement concerning submission of a Professional Employee Compensation Plan.

DATES: Submit comments on or before August 18, 2015.

ADDRESSES: Submit comments identified by Information Collection 9000-0066, Professional Employee Compensation Plan by any of the following methods:

• Regulations.gov: http://www.regulations.gov.

Submit comments via the Federal eRulemaking portal by searching the OMB control number. Select the link “Submit a Comment” that corresponds with “Information Collection 9000-0066, Professional Employee Compensation Plan”. Follow the instructions provided at the “Submit a Comment” screen. Please include your name, company name (if any), and “Information Collection 9000-0066, Professional Employee Compensation Plan” on your attached document.

• Mail: General Services Administration, Regulatory Secretariat Division (MVCB), 1800 F Street NW., Washington, DC 20405. ATTN: Ms. Flowers/IC 9000-0066, Professional Employee Compensation Plan.

Instructions: Please submit comments only and cite Information Collection 9000-0066, Professional Employee Compensation Plan, in all correspondence related to this collection. All comments received will be posted without change to http://www.regulations.gov, including any personal and/or business confidential information provided.

FOR FURTHER INFORMATION CONTACT: Mr. Edward Loeb, Procurement Analyst, Office of Acquisition Policy, GSA, 202-501-3775 or email edward.loeb@gsa.gov.

SUPPLEMENTARY INFORMATION:

A. Purpose

FAR 22.1103 requires that all professional employees are compensated fairly and properly. Accordingly, FAR 52.222-46, Evaluation of Compensation for Professional Employees, is required to be inserted in solicitations for negotiated service contracts when the contract amount is expected to exceed $650,000 and the service to be provided will require meaningful numbers of professional employees. The purpose of the provision at FAR 52.222-46 is to require offerors to submit for evaluation a total compensation plan setting forth proposed salaries and fringe benefits for professional employees working on the contract. Plans indicating unrealistically low professional employees' compensation may be assessed adversely as one of the factors considered in making a contract award.

B. Annual Reporting and Recordkeeping Burden

Respondents: 12,921.

Responses per Respondent: 3.

Total Responses: 38,763.

Hours per Response: 1.333333.

Total Burden Hours: 51,684.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0066, Professional Employee Compensation Plan, in all correspondence.

Dated: June 15, 2015.
Edward Loeb,
Acting Director, Federal Acquisition Policy Division, Office of Governmentwide Acquisition Policy, Office of Acquisition Policy, Office of Governmentwide Policy.

[FR Doc. 2015-15132 Filed 6-18-15; 8:45 am]

BILLING CODE 6820-EP-P